DEPARTMENT OF HEALTH AND HUMAN SERVICES

Office of the Secretary

[Document Identifier: HHS-OS-0990-new-60D]

Agency Information Collection Activities; Proposed Collection; Public Comment Request

AGENCY: Office of the Assistant Secretary for Health, Office of Adolescent Health, HHS.

ACTION: Notice.

SUMMARY: In compliance with section 3506(c)(2)(A) of the Paperwork Reduction Act of 1995, the Office of the Secretary (OS), Department of Health and Human Services, announces plans to submit a Information Collection Request (ICR), described below, to the Office of Management and Budget (OMB). Prior to submitting that ICR to OMB, OS seeks comments from the public regarding the burden estimate, below, or any other aspect of the ICR.

DATES: Comments on the ICR must be received on or before July 11, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-new-60D for reference.

Information Collection Request Title: Federal Evaluation of Making Proud Choices! (MPC!)

Abstract: The Office of Adolescent Health (OAH), U.S. Department of Health and Human Services (HHS) is requesting approval by OMB for a new data collection. The Federal Evaluation of Making Proud Choices (MPC!) will provide information about program design, implementation, and impacts through a rigorous assessment of program of a highly popular teen pregnancy prevention curriculum—MPC; it includes the baseline survey instrument related to the impact study and instruments for the implementation and fidelity assessment. The evaluation will be conducted in 39 schools nationwide. The data collected from these instruments will be used to describe the characteristics of the study sample of youth, being used in the models for estimating program impacts, and provide a detailed understanding of program implementation.

Need and Proposed Use of the Information: The baseline survey data will be used to describe the study sample and to assess whether random assignment successfully generated treatment and control groups balanced on important baseline characteristics. The findings from these analyses of program impacts and implementation will be of interest to the general public, to policymakers, and to schools and other organizations interested in supporting a comprehensive approach to teen pregnancy prevention.

Likely Respondents: The baseline data will be collected through a Web based survey with study participants in the participating evaluation schools. Study participants will primarily be in 8th or 9th grade at the time of the baseline survey, and will be enrolled in the schools' mandatory health class.

Total Estimated Annualized Burden—Hours
Form name | Number of respondents | Number of responses per respondent | Average burden per response (in hours) | Total burden hours
Baseline survey of impact study participants | 865 | 1 | 30/60 | 432.5
Master topic guide for staff interviews | 39 | 1 | 1 | 39
Staff survey | 26 | 1 | 30/60 | 13
Program attendance data and collection protocol | 13 | 14 | 9/60 | 27.3
Program fidelity checklist | 9 | 14 | 15/60 | 31.5
Youth focus group | 87 | 1 | 1 | 87
Total |  |  |  | 630.5

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2016-11069 Filed 5-10-16; 8:45 am]

BILLING CODE 4168-11-P